DEPARTMENT OF EDUCATION

Submission for OMB Review; Comment Request

AGENCY: Department of Education.

ACTION: Correction Notice.

SUMMARY: On April 7, 2004, the Department of Education published a 60-day public comment period notice in the Federal Register (Page 18360, Column 2) for the information collection, “The Evaluation of Exchange, Language, International and Area Studies (EELIAS), NRC, FLAS, IPP, UISFUL, BIE, CIBE, AORC, Language Resource Centers (LRC), International Studies and Research (IRS), Fulbright-Hays Faculty Research Abroad (FRA), Fulbright-Hays Doctoral Dissertation Research Abroad (DDRA), Fulbright-Hays Seminars Abroad (SA), Fulbright-Hays Group Projects Abroad (GPA), and Technology Innovation and Cooperation for Foreign Information Access (TICFIA) Programs”. Under Reporting and Recordkeeping Hour Burden, the Burden Hours are hereby corrected to 23,511. Also, the Abstract should read: LRC, IRS, FRA, DDRA, SA, GPA, and TICFIA are being added for clearance to the system that already contains seven other programs. Information collection assists IEGPS in meeting program planning and evaluation requirements. Program officers require performance information to justify continuation funding, and grantees use this information for self-evaluation and to request continuation funding from the Department of Education.

Dated: April 15, 2004.
Angela C. Arrington,
Regulatory Information Management Group, Office of the Chief Information Officer.

[FR Doc. 04-8951 Filed 4-20-04; 8:45 am]

BILLING CODE 4000-01-P